DEPARTMENT OF TRANSPORTATION

Federal Aviation Administration

14 CFR Part 39

[Docket No. FAA-2020-1131; Project Identifier MCAI-2020-00613-R; Amendment 39-21816; AD 2021-05-02]

RIN 2120-AA64

Airworthiness Directives; Airbus Helicopters

AGENCY: Federal Aviation Administration (FAA), Department of Transportation (DOT).

ACTION: Final rule; removal; request for comments.

SUMMARY: The FAA is removing Airworthiness Directive (AD) 2021-05-02, which applied to all Airbus Helicopters Model AS350B, AS350BA, AS350B1, AS350B2, AS350B3, AS350C, and AS350D helicopters; Model AS355E, AS355F, AS355F1, AS355F2, AS355N, and AS355NP helicopters; and Model EC130B4 and EC130T2 helicopters. AD 2021-05-02 required determining whether the helicopter has been operated in a severe environment since the last inspection of the main rotor hub-to-mast attachment screws, an inspection of the main rotor hub-to-mast attachment screws if the helicopter has been operated in a severe environment, and replacement of the main rotor hub-to-mast attachment screws if necessary, as specified in a European Aviation Safety Agency (now European Union Aviation Safety Agency) (EASA) AD, which was incorporated by reference. Since the FAA issued AD 2021-05-02, reported inspection results and further investigation have confirmed that the report of failed main rotor hub-to-mast attachment screws, which prompted AD 2021-05-02, was an isolated case which resulted from a maintenance mistake. Therefore, the FAA has determined that no unsafe condition is likely to exist or develop on the main rotor hub-to-mast attachment screws on other helicopters in the fleet. Accordingly, AD 2021-05-02 is removed.

DATES: This AD becomes effective November 12, 2021.

The FAA must receive comments on this AD by December 27, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

Examining the AD Docket

You may examine the AD docket at https://www.regulations.gov by searching for and locating Docket No. FAA-2020-1131; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Hal Jensen, Aerospace Engineer, Operational Safety Branch, Compliance & Airworthiness Division, FAA, 950 L'Enfant Plaza N SW, Washington, DC 20024; phone: (202) 267-9167; email: hal.jensen@faa.gov.

SUPPLEMENTARY INFORMATION:

Comments Invited

The FAA invites you to send any written data, views, or arguments about this final rule. Send your comments to an address listed under ADDRESSES. Include “Docket No. FAA-2020-1131; Project Identifier MCAI-2020-00613-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hal Jensen, Aerospace Engineer, Operational Safety Branch, Compliance & Airworthiness Division, FAA, 950 L'Enfant Plaza N SW, Washington, DC 20024; phone: (202) 267-9167; email: hal.jensen@faa.gov. Any commentary that the FAA receives which is not specifically designated as CBI will be placed in the public docket for this rulemaking.

Background

The EASA, which is the Technical Agent for the Member States of the European Union, has issued EASA AD 2017-0032-CN, dated August 11, 2021 (EASA AD 2017-0032-CN) (also referred to as the Mandatory Continuing Airworthiness Information, or the MCAI), to cancel EASA AD 2017-0032, dated February 17, 2017; corrected February 20, 2017 (EASA AD 2017-0032) which was issued to correct an unsafe condition for all Airbus Helicopters Model AS 350 B, AS 350 BA, AS 350 BB, AS 350 B1, AS 350 B2, AS 350 B3, and AS 350 D helicopters; AS 355 E, AS 355 F, AS 355 F1, AS 355 F2, AS 355 N, and AS 355 NP helicopters; and EC 130 B4 and EC 130 T2 helicopters. EASA AD 2017-0032 prompted FAA AD 2021-05-02, Amendment 39-21445 (86 FR 13982, March 12, 2021) (AD 2021-05-02). Model AS 350 BB helicopters are not certificated by the FAA and are not included on the U.S. type certificate data sheet; AD 2021-05-02 therefore did not include those helicopters in the applicability. AD 2021-05-02 also applied to Airbus Helicopter Model AS 350C helicopters because these helicopters have a similar design and are included on the U.S. type certificate data sheet. AD 2021-05-02 applied to all Airbus Helicopters Model AS350B, AS350BA, AS350B1, AS350B2, AS350B3, AS350C, and AS350D helicopters; Model AS355E, AS355F, AS355F1, AS355F2, AS355N, and AS355NP helicopters; and Model EC130B4 and EC130T2 helicopters. AD 2021-05-02 required determining whether the helicopter has been operated in a severe environment since the last inspection of the main rotor hub-to-mast attachment screws, an inspection of the main rotor hub-to-mast attachment screws if the helicopter has been operated in a severe environment, and replacement of the main rotor hub-to-mast attachment screws if necessary.

Actions Since AD 2021-05-02 Was Issued

Since the FAA issued AD 2021-05-02, reported inspection results and further investigation have confirmed that the report of failed main rotor hub-to-mast attachment screws, which prompted EASA AD 2017-0032 and AD 2021-05-02, was an isolated case which resulted from a maintenance mistake, and therefore no unsafe condition is likely to exist or develop on the affected helicopters. The FAA is issuing this AD to remove AD 2021-05-02.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently 1,220 helicopters of U.S. registry affected by AD 2021-05-02. However, the FAA notes that AD 2021-05-02 requires unnecessary maintenance actions because the identified unsafe condition does not exist on these helicopters. Therefore, it is unlikely that the FAA would receive any adverse comments or useful information about this AD from U.S. operators that would cause a need for public comment prior to adoption. Accordingly, notice and opportunity for prior public comment are unnecessary, pursuant to 5 U.S.C. 553(b)(3)(B). In addition, for the foregoing reasons, the FAA finds that good cause exists pursuant to 5 U.S.C. 553(d) for making this amendment effective in less than 30 days.

FAA's Conclusions

Upon further consideration, the FAA has determined that AD 2021-05-02 is no longer necessary. Accordingly, this AD removes AD 2021-05-02. Removal of AD 2021-05-02 does not preclude the FAA from issuing another related action or commit the FAA to any course of action in the future.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Related Costs of Compliance

This AD adds no cost. This AD removes AD 2021-05-02 from 14 CFR part 39; therefore, operators are no longer required to show compliance with that AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866; and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-05-02, Amendment 39-21445 (86 FR 13982, March 12, 2021), and

b. Adding the following new AD:

2021-05-02 Airbus Helicopters: Docket No. FAA-2020-1131; Project Identifier MCAI-2020-00613-R.

(a) Effective Date

This airworthiness directive (AD) becomes effective November 12, 2021.

(b) Affected AD

This AD replaces AD 2021-05-02, Amendment 39-21445 (86 FR 13982, March 12, 2021).

(c) Applicability

This action applies to all Airbus Helicopters, certificated in any category, as identified in paragraphs (c)(1) through (3) of this AD.

(1) Model AS350B, AS350BA, AS350B1, AS350B2, AS350B3, AS350C, and AS350D helicopters.

(2) Model AS355E, AS355F, AS355F1, AS355F2, AS355N, and AS355NP helicopters.

(3) Model EC130B4 and EC130T2 helicopters.

(d) Subject

Joint Aircraft System Component (JASC) Code 6200, Main Rotor System.

(e) Related Information

For more information about this AD, contact Hal Jensen, Aerospace Engineer, Operational Safety Branch, Compliance & Airworthiness Division, FAA, 950 L'Enfant Plaza N SW, Washington, DC 20024; phone: (202) 267-9167; email: hal.jensen@faa.gov.

(f) Material Incorporated by Reference

None.

Issued on November 4, 2021.
Lance T. Gant,
Director, Compliance & Airworthiness Division, Aircraft Certification Service.

[FR Doc. 2021-24544 Filed 11-10-21; 8:45 am]

BILLING CODE 4910-13-P